DEPARTMENT OF COMMERCE

International Trade Administration

[FA-437-804, A-471-806, C-437-805]

Sulfanilic Acid From Hungary and Portugal: Final Results of Sunset Reviews and Revocation of Orders

AGENCY: Import Administration, International Trade Administration, Department of Commerce.

SUMMARY: On October 1, 2007, the Department of Commerce (“the Department”) published in the Federal Register the notice of initiation of the five-year sunset reviews of the antidumping duty orders on sulfanilic acid from Hungary and Portugal and the countervailing duty order on sulfanilic acid from Hungary, pursuant to section 751(c) of the Tariff Act of 1930, as amended (“the Act”). Because the domestic interested party has withdrawn its participation and substantive responses in these sunset reviews, the Department is revoking these antidumping and countervailing duty orders.

DATES: Effective Date: November 8, 2007.

FOR FURTHER INFORMATION CONTACT: Devta Ohri or Brandon Farlander, Import Administration, International Trade Administration, U.S. Department of Commerce, 14th Street and Constitution Avenue, NW., Washington, DC 20230; telephone: (202) 482-3853 or (202) 482-0182, respectively.

SUPPLEMENTARY INFORMATION:

Background

On November 8, 2002, the Department issued antidumping duty orders on sulfanilic acid from Hungary and Portugal (67 FR 68100) and a countervailing duty order on sulfanilic acid from Hungary (67 FR 68101). On October 1, 2007, the Department initiated sunset reviews of these orders. See Initiation of Five-year (Sunset) Reviews, 72 FR 55742 (October 1, 2007).

On October 12, 2007, and October 31, 2007, we received notices of intent to participate and substantive responses, respectively, in these sunset reviews from a domestic interested party. Based on this information, on October 23, 2007, we informed the U.S. International Trade Commission (“ITC”) that there was domestic interest in continuation of these orders. Also, on November 21, 2007, we informed the ITC that we did not receive adequate substantive responses from any respondent parties and, as a result, we would be conducting expedited sunset reviews of these orders.

On January 28, 2008, we received a letter from the domestic interested party that it was withdrawing its notices of intent to participate in these sunset reviews and that it was no longer interested in continuation of these orders. In addition, on January 29, 2008, the domestic interested party filed a letter withdrawing its substantive response from the records of these sunset reviews. Because the Department has not expended substantial resources in conducting these expedited sunset reviews, we are accepting the domestic interested party's withdrawal of its notices of intent to participate and substantive responses. Therefore, the Department determines that there is no domestic participation or adequate substantive responses from a domestic interested party.

Scope of the Order

Imports covered by this order are all grades of sulfanilic acid (“sulfanilic acid” or “subject merchandise”), which include technical (or crude) sulfanilic acid, refined (or purified) sulfanilic acid, and sodium salt of sulfanilic acid.

Sulfanilic acid is a synthetic organic chemical produced from the direct sulfonation of aniline and sulfuric acid. Sulfanilic acid is used as a raw material in the production of optical brighteners, food colors, specialty dyes, and concrete additives. The principal differences between the grades are the undesirable quantities of residual aniline and alkali insoluble materials present in the sulfanilic acid. All grades are available as dry, free flowing powers.

Technical sulfanilic acid, currently classifiable under the subheading 2921.42.22 of the Harmonized Tariff Schedule of the United States (“HTSUS”), contains 96 percent minimum sulfanilic acid, 1.0 percent maximum aniline, and 1.0 percent maximum alkali insoluble materials. Refined sulfanilic acid, also currently classifiable under 2921.42.22 of the HTSUS, contains 98 percent minimum sulfanilic acid, 0.5 percent maximum aniline, and 0.25 percent maximum alkali insoluble materials.

Sodium salt (sodium sulfanilate), currently classifiable under the HTSUS subheading 2921.42.90, is a powder, granular, or crystalline material which contains 75 percent minimum equivalent sulfanilic acid, 0.5 percent maximum aniline based on the equivalent sulfanilic acid content, and 0.25 percent maximum alkali insoluble materials based on the equivalent sulfanilic acid content.

Although the HTSUS subheadings are provided for convenience and customs purposes, the written description of the scope of this order is dispositive.

Determination to Revoke

Pursuant to section 751(c)(3)(A) of the Act and 19 CFR 351.218(d)(1)(iii)(B)(3), if no domestic interested party files a notice of intent to participate, the Department shall, within 90 days after the initiation of the review, issue a final determination revoking the order. None of the respondent interested parties responded to the notices of initiation. Further, because the domestic interested party has withdrawn its notices of intent to participate and its substantive responses in these sunset reviews, the Department finds that no domestic interested part is participating in these sunset reviews.¹ Therefore, consistent with 19 CFR 351.222(i)(1)(i) and section 751(c)(3) of the Act, we are revoking these antidumping and countervailing duty orders. The effective date of revocation is November 8, 2007, the fifth anniversary of the date of the Department published these antidumping duty orders and the countervailing duty order. See 19 CFR 351.222(i)(2)(i).

¹ The statue requires revocation of an order within 90 days of initiating a sunset review when no party responds to the notice of initiation. See section 751(c)(3)(A) of the Act. However, in this case, even though the domestic interested party withdrew its participation after the 90-day period had expired, we find no basis to continue the orders.

Effective Date of Revocation

Pursuant to section 751(c)(3)(A) of the Act and 19 CFR 351.222(i)(2)(i), the Department will instruct U.S. Customs and Border Protection to terminate the suspension of liquidation of the merchandise subject to this order entered, or withdrawn from warehouse, on or after November 8, 2007. Entries of subject merchandise prior to the effective date of revocation will continue to be subject to suspension of liquidation and antidumping and countervailing duty deposit requirements. The Department will complete any pending administrative reviews of these orders and will conduct administrative reviews of subject merchandise entered prior to the effective date of revocation in response to appropriately filed requests for review.

These five-year (sunset) reviews and notice are in accordance with sections 751(c) and 777(i)(1) of the Act.

Dated: January 29, 2008.
David M. Spooner,
Assistant Secretary for Import Administration.

[FR Doc. 08-538 Filed 2-7-08; 8:45 am]

BILLING CODE 3510-05-M